DEPARTMENT OF HEALTH AND HUMAN SERVICES

Agency for Healthcare Research and Quality

Solicitation for Nominations for New Primary and Secondary Health Topics To Be Considered for Review by the United States Preventive Services Task Force

AGENCY: Agency for Healthcare Research and Quality (AHRQ), DHHS.

ACTION: Solicit for new topic nominations.

SUMMARY: The Agency for Healthcare Research and Quality (AHRQ) invites individuals and organizations to nominate primary and secondary prevention topics pertaining to clinical preventive services that they would like the United States Preventive Services Task Force (USPSTF) to consider for review. A list of topics that have been recently reviewed or are currently under review by the USPSTF is listed below in the supplementary information section.

The USPSTF is an independent panel of experts that makes evidence-based recommendations regarding the provision of clinical preventive services. Clinical preventive services include screening, counseling and preventive medications. The USPSTF makes recommendations about preventive services for asymptomatic people—people without recognized signs or symptoms of the specific conditions targeted by the preventive service.

Topics can be nominated by individuals, organizations, evidence-based practice centers (EPC) and USPSTF members. The USPSTF will consider nominations and prioritize topics for review based on the following set of criteria: Public health importance (burden of suffering, potential of preventive service to reduce the burden); new evidence that has the potential to change prior recommendations including inactive ones; and, potential for greatest Task Force impact (e.g., clinical controversy, practice does not reflect evidence, inappropriate timing in delivery of services). The USPSTF will prioritize topics for which there is a performance gap and the potential to significantly improve clinical practice. Individuals and organizations may nominate new topics or topics previously reviewed by the USPSTF.

Basic Topic Nomination Requirements: Nominations must be no more than 500 words in length and must include the following information. Nominations may include an appendix that contains references and supporting documents (not included in word count).

1. Name of topic.

2. Rationale for consideration by the USPSTF, to include:

a. Primary or secondary prevention topic (screening, counseling or preventive medication).

b. Primary care relevance (aplicable clinical preventive service must be initiated in the primary care setting which can be defined as family practice, internal medicine, pediatrics or obstetrics/gynecology and provided by a primary care provider).

c. Description of public health importance (burden of disease/suffering, potential of preventive service to reduce burden, including effective interventions). Citations and supporting documents are recommended.

d. Summary of new evidence, if any, that has potential to affect the Task Force's recommendation on a previously reviewed topic. Please refer to http://preventiveservices.ahrg.gov for USPSTF recommendations. Citations and supporting documents are recommended.

e. Description of potential impact of USPSTF's review of the topic, i.e., change in clinical practice, research focus, etc.

DATES: Topic nominations should be submitted by February 23, 2006, in order to be considered for 2006-2008. AHRQ will not reply to submissions in response to the request for nominations, but will consider all topic nominations during the selection process. If a topic is selected for review by the USPSTF, the nominator will be notified by AHRQ.

ADDRESSES: Please submit nominations to: Therese Miller, DrPH, ATTN: USPSTF Topic Nominations, Center for Primary Care, Prevention & Clinical Partnerships, Agency for Healthcare Research and Quality, 540 Gaither Road, Rockville, MD 20850, Fax: 301.427.1597, E-mail: tmiller@ahrg.gov.

FOR FURTHER INFORMATION CONTACT: Therese Miller at tmiller@ahrq.gov or Gloria Washington at gwashing@ahrq.gov.

Arrangement For Public Inspection: All nominations will be available for public inspections by appointment at the Center for Primary Care, Prevention & Clinical Partnerships, 301.427.1500, weekdays between 10 a.m. and 5 p.m. (eastern time).

SUPPLEMENTARY INFORMATION:

Background

Under Title IX of the Public Health Service Act, AHRQ is charged with enhancing the quality, appropriateness and effectiveness of health care services and access to such services. AHRQ accomplishes these goals through scientific research and promotion of improvements in clinical practice, including prevention of diseases and other health conditions and improvements in the organization, financing and delivery of health care services (42 U.S.C. 299-299c-7 as amended by Pub. L. 106-129 (1999)).

The United States Preventive Services Task Force (USPSTF) is an independent expert panel, first established in 1984 under the auspices of the U.S. Public Health Service. Currently, under AHRQ's authorizing legislation noted above, the Director of AHRQ is responsible for convening the USPSTF to be composed of individuals with appropriate expertise. The mission of the Task Force is to rigorously evaluate the effectiveness of critical preventive services and to formulate recommendations for primary care clinicians regarding the appropriate provision of preventive services. The USPSTF transitioned to a standing Task Force in 2001. Current Task Force recommendations and associated evidence reviews are available at http://www.preventiveservices.ahrq.gov.

Topic Nomination Solicitation

The purpose of this solicitation for new topics by AHRQ and the USPSTF is to create a balanced portfolio of relevant topics for the current Task Force library. The library is based on populations, types of services (screening, counseling, preventive medications), and disease types (cancer; heart and vascular disease; injury and violence-related disorders; infectious diseases; mental disorders and substance abuse; metabolic, nutritional and endocrine diseases; musculoskeletal conditions; obstetric and gynecological conditions; pediatric disorders; and, vision and hearing disorders). Selection of suggested topics will be made on the basis of qualifications of nominations as outlined above (see basic topic nomination requirements) and the current expertise of the USPSTF.

U.S. Preventive Services Task Force

| Type of preventive service
Topics Currently Under Review:
Additional Risk Factors for Intermediate CHD Risk | S
Aspirin Primary Prevention of CHD | PM
Aspirin Prophylaxis in Pregnancy | PM
Aspirin/NSAIDs to prevent Colorectal Cancer | PM
Bacterial Vaginosis in Pregnancy | S
Breast Cancer | S/PM
Carotid Artery Stenosis | S
Chlamydial Infection | S
Colorectal Cancer | S
Depression in Adults | S
Drug Misuse | S
Dyslipidemia in Adults and Children | S
Gestational Diabetes Mellitus | S
Hearing Impairment in Elderly | S
Hearing Impairment Newborn | S
Hemochromatosis | S
Hip Dysplasia | S
HIV & Other Sexually Transmitted Diseases | C
Iron Deficiency Anemia, including iron prophylaxis | S
Lead Levels in Childhood & Pregnancy | S
Motor Vehicle Occupant Injuries | C
Obesity in Adults | S/C
Osteoporosis to prevent Fractures | S
Skin Cancer | S/C
Speech & Language Delay | S
Thyroid Cancer | S
Topics Recently Reviewed:
Abdominal Aortic Aneurysm | S
Adolescent Idiopathic Scoliosis | S
Alcohol Misuse | C
Bladder Cancer | S
BRCA 1 & 2 | S
Breastfeeding | C
Cervical Cancer | S
Coronary Heart Disease screening by EKG, ETT, EBCT | S
Dementia | S
Dental Caries in Preschool Children | S
Diabetes Mellitus Type 2 | S
Family Violence | S
Genital Herpes Simplex | S
Glaucoma | S
Gonorrhea | S
Hepatitis B Virus Infection | S
Hepatitis C Virus Infection in Adults | S
Healthy Diet | C
HIV Infection | S
Hypertension | S
Low Back Pain | C
Lung Cancer | S
Obesity in Children | S
Oral Cancer | S
Ovarian Cancer | S
Pancreatic Cancer | S
Peripheral Arterial/Vascular Disease | S
Physical Activity | C
Postmenopausal Hormone Prophylaxis (HRT) | PM
Prostate Cancer | S
Rh Incompatibility | S
Suicide Risk | S
Syphilis | S
Testicular Cancer | S
Thyroid Disease | S
Visual Impairment in Children | S
Type of Preventive Service: S = Screening; C = Counseling; PM = Preventive Medications.

Dated: January 17, 2006.
Carolyn M. Clancy,
Director.

[FR Doc. 06-612 Filed 1-23-06; 8:45 am]

BILLING CODE 4160-90-M